DEPARTMENT OF ENERGY

Federal Energy Regulatory Commission

Notice Concerning Submittals Made During Adverse Weather-Related Government Closures

Take notice that the Commission is adopting the following procedural practice with respect to acceptance of submittals when, due to adverse weather that has resulted in the Office of Personnel Management closing Federal government offices in Washington, DC., the Commission is closed.

Effective March 7, 2014, when the Commission is closed due to adverse weather that has resulted in the Office of Personnel Management closing Federal government offices in Washington, DC, the Commission will not accept submittals—either in hardcopy format or in electronic format through “FERC Online” (including through eFiling and eTariff).

At such time as the Commission reopens, it will again accept submittals both in hardcopy format and in electronic format through “FERC Online” (including through eFiling and eTariff).

Dated: March 4, 2014.
Kimberly D. Bose,
Secretary.

[FR Doc. 2014-05123 Filed 3-7-14; 8:45 am]

BILLING CODE 6717-01-P